DEPARTMENT OF AGRICULTURE

Federal Crop Insurance Corporation

7 CFR Part 457

RIN 0563-AC21

Common Crop Insurance Regulations, Stonefruit Crop Insurance Provisions; Correction

AGENCY: Federal Crop Insurance Corporation, USDA.

ACTION: Final rule; correction.

SUMMARY: This document contains a correction to the final regulation which was published July 29, 2010 (75 FR 44709-44718). The regulation, as here pertinent, related to the insurance of stonefruit.

DATES: Effective Date: September 27, 2010.

FOR FURTHER INFORMATION CONTACT: Claire White, Economist, Product Management, Product Administration and Standards Division, Risk Management Agency, United States Department of Agriculture, Beacon Facility, Stop 0812, Room 421, PO Box 419205, Kansas City, MO 64141-6205, telephone (816) 926-7730.

SUPPLEMENTARY INFORMATION:

Background

The final regulation that is the subject of this correction revised the Stonefruit Crop Insurance Regulations that published July 29, 2010 (75 FR 44709-44718).

Need for Correction

As published, the final regulation contained an error which may prove to be misleading. The amendatory instruction published on page 44717 of the Federal Register contained language specific to redesignating section 3(c) as 3(d) and revising redesignated section 3(c) in the Stonefruit Crop Insurance Provisions. However, redesignated section 3(d) was not revised. Therefore, reference to revising redesignated section 3(d) on page 44717 is not needed.

In FR Doc. 10-18359 appearing on page 44717 in the issue published Thursday, July 29, 2010, the following correction is made:

§ 457.157 [Corrected]

1. On page 44717, in the first and second columns, remove amendatory instruction 3.l and redesignate amendatory instructions 3.m through 3.x as 3.l through 3.w.

Signed in Washington, DC, on September 16, 2010.
Barbara Leach,
Acting Manager, Federal Crop Insurance Corporation.

[FR Doc. 2010-23886 Filed 9-24-10; 8:45 am]

BILLING CODE 3410-08-P